DEPARTMENT OF HEALTH AND HUMAN SERVICES

National Institutes of Health

National Institute of Mental Health; Amended Notice of Meeting

Notice is hereby given of a change in the meeting of the National Institute of Mental Health Special Emphasis Panel, November 15, 2008, 10 am to November 15, 2008, 12 pm, National Institutes of Health, Neuroscience Center, 6001 Executive Boulevard, Rockville, MD, 20852 which was published in the Federal Register on September 26, 2008, 73FR55859.

The meeting date has been changed to November 14, 2008 and the time has been changed to start at 11 a.m. and end at 5 p.m. The meeting location remains the same. The meeting is closed to the public.

Dated: September 30, 2008.
Jennifer Spaeth
Director, Office of Federal Advisory Committee Policy.

[FR Doc. E8-23596 Filed 10-3-08; 8:45 am]

BILLING CODE 4140-01-P